DEPARTMENT OF COMMERCE

National Oceanic and Atmospheric Administration

[I.D. 032703F]

Endangered and Threatened Species; Take of Anadromous Fish

AGENCY: National Marine Fisheries Service (NMFS), National Oceanic and Atmospheric Administration (NOAA), Commerce.

ACTION: Receipt of applications for scientific research permits 1430 and 1431 and request for comment.

SUMMARY: Notice is hereby given that NMFS has received an application for scientific research from Jones & Stokes (J&S) in Sacramento, CA (1430) and California Department of Water Resources (CDWR) in Sacramento, CA (1431). These permits would affect federally threatened Central Valley spring-run Chinook salmon and Central Valley steelhead. This document serves to notify the public of the availability of the permit applications for review and comment.

DATES: Written comments on the permit applications must be received at the appropriate address or fax number (see ADDRESSES) no later than 5 p.m. Pacific Standard Time on May 19, 2003.

ADDRESSES: Written comments on this request should be sent to the appropriate office as indicated below. Comments may also be sent via fax to the number indicated for the request. Comments will not be accepted if submitted via e-mail or the Internet. The applications and related documents are available for review by appointment, for permits 1430 and 1431: Protected Resources Division, NMFS, 650 Capitol Mall, Suite 8-300, Sacramento, CA 95814 (ph: 916-930-3600, fax: 916-930-3629). Documents may also be reviewed by appointment in the Office of Protected Resources, F/PR3, NMFS, 1315 East-West Highway, Silver Spring, MD 20910-3226 (301-713-1401).

FOR FURTHER INFORMATION CONTACT: Rosalie del Rosario at phone number 916-930-3600, or e-mail: Rosalie.delRosario@noaa.gov.

SUPPLEMENTARY INFORMATION:

Authority

Issuance of permits and permit modifications, as required by the Endangered Species Act of 1973 (16 U.S.C. 1531B1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the federally threatened Central Valley spring-run Chinook salmon (Oncorhynchus tshawytscha) and threatened Central Valley steelhead (O. mykiss).

Applications Received

J&S requests a 1-year permit (1430) for take of adult and juvenile threatened Central Valley spring-run Chinook salmon and threatened Central Valley steelhead to assess potential impacts of water transfers on Central Valley fall-run Chinook salmon, spring-run Chinook salmon, and steelhead in the lower Yuba River. J&S requests authorization for an estimated total take of 18,306 adult spring-run Chinook salmon (that includes 0.5 percent incidental mortality) and 2,000 adult steelhead (0.5 percent incidental mortality) resulting from observation and release of adult fish, and 619,865 juvenile spring-run Chinook salmon (0.9 percent incidental mortality) and 18,324 juvenile steelhead (2 percent incidental mortality) resulting from capture, handling, and releasing of juvenile fish.

CDWR requests a 5-year permit (1431) for take of adult and juvenile Central Valley spring-run Chinook salmon and Central Valley steelhead associated with studies to evaluate the effects of Oroville-Thermalito Complex operations on andromous fishes in the Feather River. The studies concern spring-run Chinook salmon holding areas and spawning areas, Chinook salmon spawning escapement surveys, and steelhead life history. CDWR requests authorization for an estimated annual take resulting from carcass surveys, marking, releasing, and/or tissue samples of 40,555 adult spring-run Chinook salmon (that includes >0.01 percent incidental mortality) for the first 3 years and 50 adult spring-run Chinook salmon annually thereafter, 115 adult steelhead (4 percent incidental mortality), and 775 juvenile steelhead (3 percent incidental mortality) resulting from the proposed studies.

Dated: April 11, 2003.
Phil Williams,
Chief, Endangered Species Division, Office of Protected Resources, National Marine Fisheries Service.

[FR Doc. 03-9492 Filed 4-16-03; 8:45 am]

BILLING CODE 3510-22-P